FEDERAL COMMUNICATIONS COMMISSION

Sunshine Act Meeting; Open Commission Meeting; Friday, June 13, 2014

Date: June 6, 2014.

The Federal Communications Commission will hold an Open Meeting on the subjects listed below on Friday, June 13, 2014 which is scheduled to commence at 10:30 a.m. in Room TW-C305, at 445 12th Street SW., Washington, DC.

Item No. | Bureau | Subject
1 | Wireline Competition | PRESENTATION: The Commission will hear a presentation with an update on the efforts to transition circuit-switched networks to Internet Protocol (IP) networks. The presentation will include a status report on the voluntary experiments proposed by AT&T designed to assess how the transition to IP networks affects users.
2 | MEDIA | PRESENTATION: The Commission will hear a presentation with an update on the continuing efforts to launch new and diverse voices to the American public via increased access to Low Power FM radio stations.

* * * * *

Consent Agenda

The Commission will consider the following subjects listed below as a consent agenda and these items will not be presented individually:

1 | MEDIA | TITLE: 6 Johnson Road Licenses, Inc., and Educational Media Foundation, Assignors, and Cumulus Licensing LLC, Assignee, Applications for Assignment of Stations WMEZ(FM), Pensacola, Florida, WXBM-FM, Milton, Florida, and WABD(FM), Mobile, Alabama. SUMMARY: The Commission will consider a Memorandum Opinion and Order concerning an Application for Review filed by ADX Communications of Escambia and Pensacola seeking review of Media Bureau decisions granting assignment applications.
2 | MEDIA | TITLE: Amendment of Section 73.202(b), Table of Allotments, FM Broadcast Stations (Columbia, Missouri). SUMMARY: The Commission will consider a Memorandum Opinion and Order concerning an Application for Review filed by The Curators of the University of Missouri seeking review of the Media Bureau's dismissal of its rulemaking petition to reserve Channel 252C2 in Columbia, Missouri, for noncommercial educational use.
3 | MEDIA | TITLE: Smile FM, Application for a Construction Permit For a New Noncommercial Educational FM Station at Yates, Michigan. SUMMARY: The Commission will consider a Memorandum Opinion and Order concerning an Application for Review filed by Smile FM seeking review of the Media Bureau's dismissal of its application for a new noncommercial educational FM station at Yates, Michigan.
4 | MEDIA | TITLE: TJN, Inc., Application for a New NCE FM Station at Gold Beach, Oregon and UCB USA, Inc. Application for a New NCE FM Station at Brookings, Oregon. SUMMARY: The Commission will consider a Memorandum Opinion and Order concerning an Application for Review filed by TJN seeking review of a decision by the Media Bureau dismissing its application for a new noncommercial FM station at Gold Beach, Oregon.
5 | MEDIA | TITLE: Scott Savage, Receiver, Assignor, Applications for Assignment of Licenses For Stations WFJO(FM), Folkston, Georgia, WHJX(FM), Baldwin, Florida, WSJF(FM), St. Augustine Beach, Florida, and WTHG(FM), Hinesville, Georgia. SUMMARY: The Commission will consider a Memorandum Opinion and Order concerning an Application for Review filed by Dr. Glenn W. Cherry and Charles W. Cherry, II, seeking review of several decisions by the Media Bureau.
6 | MEDIA | TITLE: BVM Helping Hands, Application for Construction Permit for New Noncommercial Educational FM Station, Antioch, Illinois. SUMMARY: The Commission will consider a Memorandum Opinion and Order concerning an Application for Review filed by Chicago Public Media seeking review of a decision by the Media Bureau granting a new noncommercial educational FM station in Antioch, Illinois to BVM Helping Hands.
7 | MEDIA | TITLE: New Jersey Public Broadcasting Authority, Application for a New NCE FM Station at Bernardsville, New Jersey and World Revivals, Inc., Application for a New NCE FM Station at Chatham, New Jersey. SUMMARY: The Commission will consider a Memorandum Opinion and Order concerning an Application for Review filed by World Revivals, Inc., seeking review of several decisions by the Media Bureau.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu <http://www.capitolconnection .gmu.edu>.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2014-14394 Filed 6-16-14; 4:15 pm]

BILLING CODE 6712-01-P